FEDERAL MARITIME COMMISSION

Ocean Transportation Intermediary License Applicants

Notice is hereby given that the following applicants have filed with the Federal Maritime Commission an application for license as a Non Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non Vessel Operating Common Carrier Ocean Transportation Intermediary Applicants

EMIC International Corporation, 10729 Audelia Road, #201, Dallas, TX 75238, Officer: Emmanuel U. Igwe, President (Qualifying Individual).

Bimini Shipping, LLC, 3301 NW South River Drive, Miami, FL 33142. Officer: Ronald H. Sasso, Manager (Qualifying Individual).

MEBS Global Reach LC, 4500 Southgate Pl., Ste. 700, Chantilly, VA 20151, Officers: Mitchell J. Martin, Director, USA Opera (Qualifying Individual), Bruce Oliver, Sr. Vice President.

IntlMOVE, Inc., 1880 NE 170th Street, N. Miami Beach, FL 33162, Officer: Eric Polacek, Dir. Of Operations (Qualifying Individual).

T.R.T. International Ltd., 196e Maracaibo Street, Newark, NJ 07114, Officer: Igor Mitnik, Vice President (Qualifying Individual).

G. B. Logistics (USA), Inc., 9080 Telstar Ave., #330, El Monte, CA 91731, Officer: Richard YY Yuan, President (Qualifying Individual).

Mota Import Export LLC dba MTI Mota Import, Export Cargo Express, 175 Smith Street, Perth Amboy, NJ 08861, Officers: Carmen Rodriquez, Secretary (Qualifying Individual), Angel Mota Ramirez, President.

Non Vessel Operating Common Carrier and Ocean Freight Forwarder Transportation Intermediary Applicants

Atlantic Shipping Services Inc., 8449 W. Bellfort Street, 340, Houston, TX 77071, Officer: Dominic G'Benoba, President (Qualifying Individual).

Trans Ocean Logistics Forwarding LLC, 822 Pratt Street, Rahway, NJ 07065, Officers: Edwin Fuster, Sr., Operating Manager (Qualifying Individual), Gloria Fuster, Asst. Operating Manager.

Martin Transports International, Inc., 15501 Texaco Ave., Paramount, CA 90723, Officer: Martin Scholz, President (Qualifying Individual).

Servi-Fast International Corporation, 7999 NW 81 Place, Medley, FL 33166, Officer: Robert E. Espejo, Secretary (Qualifying Individual).

A-Logistics, Inc., 484 2nd Ave., #11F, New York, NY 10016, Officer: Nikolai N. Simonov, President (Qualifying Individual).

Aladdin Shipping Inc., 510 John Alber Rd., Houston, TX 77076, Officer: Alaeldin M. Ahmed, President (Qualifying Individual).

TBB Global Logistics, Inc., 802 Far Hills Drive, New Freedom, PA 17349, Officer: Samuel Polakoff, President (Qualifying Individual).

Anjie Group, Inc., 65 West Merrick Road, Ste. 202, Valley Stream, NY 11580, Officers: Shuai Stanley Yuan, President (Qualifying Individual), An Li, Vice President.

O.P. Premium Star Logistics LLC dba O.P. Premium Star Logistics, 223 Calle Felix, Delano, CA 93215, Officer: Otto Petgrave, Manager (Qualifying Individual).

Ocean Freight Forwarder—Ocean Transportation Intermediary Applicants

WELL Worldwide Energy Logistics Inc., 3340-C Greens Road, #450, Houston, TX 77032, Officers: John E. Rulon, Vice President (Qualifying Individual), Martin Burt, President.

Cargoways Ocean Services, Inc., 1201 Hahlo Street, Houston, TX 77020, Officer: Frances Mahoney, Asst. Secretary (Qualifying Individual).

Total Global Solutions, Inc., 4290 Bells Ferry Rd., #224, Kennesaw, GA 30144, Officer: Kathleen G. Molnar, Secretary (Qualifying Individual), Dennis R. Smith, President.

Dated: May 15, 2009.
Karen V. Gregory,
Secretary.

[FR Doc. E9-11758 Filed 5-19-09; 8:45 am]

BILLING CODE 6730-01-P